NUCLEAR REGULATORY COMMISSION

[Docket No. 50-482]

Kansas Gas and Electric Company, Kansas City Power & Light Company, Kansas Electric Power Cooperative, Inc., Wolf Creek Nuclear Operating Corporation, Wolf Creek Generating Station, Unit 1; Notice of Issuance of Renewed Facility Operating License No. NPF-42 for an Additional 20-Year Period Record of Decision

Notice is hereby given that the U.S. Nuclear Regulatory Commission (the Commission) has issued renewed facility operating license No. NPF-42 to Wolf Creek Nuclear Operating Corporation (WCNOC), the operator of the Wolf Creek Generating Station (WCGS). Renewed facility operating license No. NPF-42 authorizes operation of WCGS at reactor core power levels not in excess of 3565 megawatts thermal (1228 megawatts electric), in accordance with the provisions of the WCGS renewed license and its technical specifications.

The notice also serves as the record of decision for the renewal of facility operating license No. NPF-42 for WCGS, consistent with Title 10 of the Code of Federal Regulations Section 51.103 (10 CFR 51.103). As discussed in the Final Supplemental Environmental Impact Statement (FSEIS) for WCGS, dated May 2008, the Commission considered a range of reasonable alternatives that included generation from coal, natural gas, oil, wind, solar, hydropower, geothermal, wood waste, municipal solid waste, other biomass-derived fuels, delayed retirement, utility-sponsored conservation, a combination of alternatives, and a no action alternative. The factors considered in the record decision can be found in the supplemental environmental impact statement (SEIS) for License Renewal, Supplement 32 regarding Wolf Creek Generating Station.

WCGS Unit 1 is a PWR located 3.5 miles northeast of the town of Burlington, in Coffey County, Kansas. The application for the renewed license complied with the standards and requirements of the Atomic Energy Act of 1954, as amended (the Act), and the Commission's regulations. As required by the Act and the Commission's regulations in 10 CFR Chapter I, the Commission has made appropriate findings, which are set forth in the license. Prior public notice of the action involving the proposed issuance of the renewed license and of an opportunity for a hearing regarding the proposed issuance of the renewed license was published in the Federal Register on November 30, 2006.

For further details with respect to this action, see: (1) WCNOC's license renewal application for WCGS dated September 27, 2006, as supplemented by letters dated through August 1, 2008; (2) the Commission's safety evaluation report (NUREG-1915), published in October 2008; (3) the updated safety analysis report; and (4) the Commission's final environmental impact statement (NUREG-1437, Supplement 32), for WCGS, published on May 8, 2008. These documents are available at the NRC's Public Document Room, One White Flint North, 11555 Rockville Pike, Rockville, Maryland 20852, and can be viewed from the NRC Public Electronic Reading Room at http://www.nrc.gov/reading-rm/adams.html.

Copies of Renewed Facility Operating License No. NPF-42, may be obtained by writing to the U.S. Nuclear Regulatory Commission, Washington, DC 20555-0001, Attention: Director, Division of License Renewal. Copies of the WCGS safety evaluation report (NUREG-1915) and the final environmental impact statement (NUREG-1437, Supplement 32) may be purchased from the National Technical Information Service, U.S. Department of Commerce, Springfield, VA 22161 (http://www.ntis.gov), 703-605-6000, or Attention: Superintendent of Documents, U.S. Government Printing Office, P.O. Box 371954 Pittsburgh, PA 15250-7954 (http://www.gpoaccess.gov), 202-512-1800. All orders should clearly identify the NRC publication number and the requestor's Government Printing Office deposit account number or VISA or MasterCard number and expiration date.

Dated at Rockville, Maryland, this 20th day of November 2008.
For the Nuclear Regulatory Commission.
Brian E. Holian,
Director, Division of License Renewal, Office of Nuclear Reactor Regulation.

[FR Doc. E8-28131 Filed 11-25-08; 8:45 am]

BILLING CODE 7590-01-P